DEPARTMENT OF DEFENSE

Department of the Army; Corps of Engineers

Availability Draft Environmental Impact Statement (DEIS) for the Greers Ferry Lake Shoreline Management Plan, Arkansas

AGENCY: Army Corps of Engineers, DoD.

ACTION: Notice of availability.

SUMMARY: Pursuant to section 102(2)(c) of the National Environmental Policy Act (NEPA) of 1969 (as amended), the U.S. Army Corps of Engineers (USACE), Little Rock District, has prepared a Draft Environmental Impact Statement (DEIS) for the proposed implementation of a revised Shoreline Management Plan (SMP) at Greers Ferry Lake, Heber Springs, Arkansas. This DEIS is being made available for a 60-day public comment period.

DATES: A public meeting for receiving comments on the DEIS will be held on December 4, 2001, at the Brighton Park Hotel Conference Center in Heber Springs, Arkansas. Written comments on the DEIS should be submitted on or before January 18, 2002.

FOR FURTHER INFORMATION CONTACT: Questions or comments concerning the DEIS should be addressed to Ms. Tricia Anslow, Project Manager, Planning Branch, PO Box 867, Little Rock, Arkansas 72203-0867, telephone 501-324-5032, E-mail: patricia.anslow@sw102.usace.army.mil.

SUPPLEMENTARY INFORMATION:

Setting

The Greers Ferry Lake Project area is in the foothills of the Ozard Mountains in north-central Arkansas. The project area is approximately 65 miles from Little Rock, Arkansas, and 130 miles from Memphis, Tennessee. The lake lies within Cleburne and Van Buren Counties. Large portions of Stone and Searcy Counties and small portions of Pope and Conway counties also fall within the lake's watershed. The area around the lake is principally rural in character. More than 80 percent of the land in the watershed is forested, and 12 percent is agricultural. Greers Ferry Lake was constructed between March 1959 and July 1964. The project area includes 45,548 acres (slightly more than 71 square miles). Within the project area, the government owns flowage easements over 4,634 acres. The lake's waters cover 31,500 acres when measured at the “conservation pool” level of 461 feet above mean sea level. When waters must be held to prevent flooding of areas below the dam, the surface of the lake may rise to 487 feet above mean sea level. When this happens, the lake's surface area increases to 40,500 acres, and adjacent lands subject to the flowage easements become inundated.

Background

The Department of the Army, Corps of Engineers, published a Notice of Intent in the Federal Register (65 FR 51299-51300, Aug. 23, 2000) stating its intent to prepare an EIS for a proposed revision of the Greers Ferry Lake Shoreline Management Plan (SMP). The SMP is a comprehensive plan for managing the shoreline at Greers Ferry Lake. The SMP is required by Federal regulations found at Title 36 of the Code of Federal Regulations (CFR), § 327.30, which contain a set of requirements for a periodic SMP review. The current version of the Greers Ferry Lake SMP became effective on November 21, 1994. The proposed SMP would revise various elements of the 1994 SMP. These elements include zoning of limited development area, vegetation modification, provisions for grandfathered docks, and restrictions on boats with sleeping quarters and/or marine sanitation devices. As part of its decision-making process, the Corps is preparing an Environmental Impact Statement (EIS) to determine the potential environmental effects of implementing a revised SMP.

Proposed Action and Alternatives

The Corps policy at Greers Ferry Lake is to protect and manage project shorelines in a manner that promotes safe and healthful use by the public while maintaining environmental safeguards to ensure a quality resource. Consistent with Corps policy and the purpose and need for the proposed action, the Little Rock District and the Greers Ferry Project Office propose to implement a revision of the Greers Ferry Lake SMP following review of pubic comments and appropriate environmental impact analysis. The SMP would adhere to Corps policy and Title 36 of the CFR, cited previously. The DEIS examines four action alternatives for revising the SMP and a no action alternative. These alternatives are described in the following paragraphs.

• Alternative 1 (No Action Alternative). Under the No Action Alternative, the Little Rock District would make no changes to the existing 1994 Greers Ferry Lake SMP. No new management elements would be adopted, and no existing management elements would be modified. Rezoning applications received during the current SMP review would not be allowed but would be returned to the applicants at the completion of the current review. Applicants would be advised that they could reapply during the next review. Permit applications for placement of private floating facilities within present Limited Development Areas (LDA's) could be approved. Treatment of applications concerning grandfathered docks would proceed based on the 1994 SMP, which would mean no changes or enlargements. The allowance for vegetation modification would permit mowing up to a maximum of 50 feet from habitable structures, as currently allowed under the 1994 SMP. Restrictions on locations for boats with sleeping quarters and/or marine sanitation devices would remain in effect.

It should be noted that if the No. Action Alternative were adopted, no new rezoning requests would be approved during the period that would commence following issuance of the ROD upon completion of this EIS. However, during future reviews of the SMP, rezoning applications could be approved to the extent of the level described in Alternative 5 (Maximum Modification). It is expected that under No Action, some level of growth would occur over a much longer period of time than that described under Alternative 3 (No Growth).

• Alternative 2 (Preferred Alternative, Approval of Rezoning Requests Meeting the 80 Percent Criteria). Under this alternative, no future rezoning requests would be accepted. The 93 rezoning requests that met the 80 percent criteria during the 1999 review of the 1994 SMP would be allowed. A minimum 50-foot buffer would be established; that is, mowing would be prohibited from the vegetated edge of the shoreline for 50 feet. This buffer requirement would affect only Corps property. Authorization for mowing from habitable structures would be increased from 50 to 100 feet, except where is would conflict with the vegetated buffer. The project rules on use of boats with sleeping quarters and/or marine sanitation devices would defer to State and Federal regulations, except that the requirement that such boats be moored at commercial docks would remain in effect. Grandfathered docks would be allowed to be reconstructed to alternative dimensions, or the locations of existing grandfathered docks would be reallocated outside the buffer zones or prohibited areas to limited development.

In designating Alternative 2 as the preferred configuration of key SMP elements for incorporation into and implementation through a revised SMP, the Little Rock District is guided by Corps regulations and policy governing shoreline management plans, the District's objectives for the Greers Ferry Lake SMP, public input to the SMP and EIS development processes, and court-ordered mandates. The District views the Preferred Alternative as the alternative that conforms with existing laws and regulations and best balances public uses of lake shoreline for recreational opportunity, public safety, and environmental protection.

• Alternative 3 (No Growth Alternative). This alternative, which is the most restrictive to lake access and recreational use, would seek to maintain the Corps land around the lake as it currently exists, at least until the next review. Rezoning applications would not be accepted. No new shoreline use permits would be allowed. Expiring permits could be renewed, but only according to the permit's current terms. For example, a two-slip dock permit could be renewed only as a two-slip dock permit. It could not be changed to a permit for a community dock.) No new permits for vegetation modification would be issued, and expiring permits would not be renewed. Restrictions on locations for boats with sleeping quarters and/or marine sanitation devices would remain in effect.

• Alternative 4 (Approval of Rezoning Requests Meeting the 90 Percent Criteria). This alternative would implement the same measures as described under Alternative 2 (Preferred Alternative); however, only rezoning requests that met 90 percent of the rezoning criteria would be approved. A minimum 100-foot buffer would be established; that is, mowing would be prohibited from the vegetated edge of the shoreline for 100 feet.

• Alternative 5 (Maximum Modification). This alternative would allow the maximum rezoning from “protected” to “limited development.” The shoreline would be rezoned to increase the LDA's from 7 to 33 percent. Rezoning would be based on suitable topography (shoreline with a 20 to 49 percent slope). No rezoning requests would be accepted or approved at future SMP reviews. Authorization for mowing would be increased from 50 to 200 feet from habitable structures. Restrictions on use of boats with sleeping quarters and/or marine sanitation devices would be abolished, but the requirement for such boats to be moored at commercial docks would remain in effect. Grandfathered docks would be allowed to be reconstructed to alternative dimensions, or the locations of existing grandfathered docks would be reallocated outside the buffer zones or published areas.

DEIS Availability

The DEIS will be available for public review at the following locations:

1. Cleburne County Library, 1010 West Searcy, Heber Springs, AR 72543.

2. Greers Ferry Public Library, 8743 Edgemont Road, Greers Ferry, AR 72067.

3. Central Arkansas Main Library, 100 Rock Street, Little Rock, AR 72203.

4. U.S. Army Corps of Engineers, 700 West Capital, ATTN: CESWL-PR-P, Little Rock, AR 72203.

5. Van Buren County Library, ATTN: Ms. Karla Fultz, 110 Page Street, Clinton, AR 72031.

6. Laman Library, 2801 N Orange, North Little Rock, AR 72114.

7. U.S. Army Corps of Engineers, 700 Heber Springs Rd. North, Greers Ferry Project Office, Heber Springs, AR 72543.

Commenting

Comments received in response to this DEIS, including names and addresses of those who comment, will be considered part of the public record. Comments submitted anonymously will also be accepted and considered. Pursuant to Title 7 of the CFR 1.27(d), any person may request that the Corps withhold a submission from the public record if he or she can demonstrate that the Freedom of Information Act (FOIA) permits such confidentiality. Persons requesting such confidentiality should be aware that, under FOIA, confidentiality may be granted in only very limited circumstances, such as toe protect trade secrets. The Corps will inform the requester of the agency's decision regarding the request for confidentiality. If the request is denied, the Corps will return the submission with notification that the comments may be resubmitted either with or without the commentor's name and address. Affected local, State, or Federal agencies, affected American Indian tribes, and other interested private organizations and parties may participate in the review process by forwarding written comments to the address given previously or by attending the pubic meeting.

Luz D. Ortiz,
Army Federal Register Liaison Officer.

[FR Doc. 01-28674 Filed 11-14-01; 8:45 am]

BILLING CODE 3710-57-M